DEPARTMENT OF COMMERCE

National Oceanic and Atmospheric Administration

Membership of the National Oceanic and Atmospheric Administration Performance Review Board

AGENCY: National Oceanic and Atmospheric Administration (NOAA), Department of Commerce.

ACTION: Notice of Membership of the NOAA Performance Review Board.

SUMMARY: In accordance with 5 U.S.C. 4314(c)(4), NOAA announces the appointment of members who will serve on the NOAA Performance Review Board (PRB). The NOAA PRB is responsible for reviewing performance appraisals and ratings of Senior Executive Service and Senior Professional members and making written recommendations to the appointing authority on retention and compensation matters, including performance-based pay adjustments, awarding of bonuses and reviewing recommendations for potential Presidential Rank Award nominees. The appointment of members to the NOAA PRB will be for a period of 12 months.

DATES: Effective Date: The effective date of service of the three new appointees to the NOAA Performance Review Board is September 30, 2010.

FOR FURTHER INFORMATION CONTACT: Jennifer Heyob, Executive Resources Program Manager, Workforce Management Office, NOAA, 1305 East-West Highway, Silver Spring, Maryland 20910, (301) 713-6350.

SUPPLEMENTARY INFORMATION: The names and position titles of the members of the NOAA PRB are set forth below:

Louisa Koch, Director, Office of Education Office of Education.

Maureen E. Wylie, Chief Financial Officer Office of the Chief Financial Officer.

Rebecca J. Lent, Director, International Affairs National Marine Fisheries Service.

Alexander E. MacDonald, Deputy Assistant Administrator, Laboratories and Cooperative Institutes and Director, ESRL Oceanic and Atmospheric Research.

Russell F. Smith, III, Deputy Assistant Secretary for International Fisheries Office of the Under Secretary for Oceans and Atmosphere.

Michael V. Culpepper, Chief Human Capital Officer National Institute of Standards and Technology, DOC.

Charles S. Baker, Deputy Assistant Administrator, NESDIS National Environmental Satellite, Data and Information Service.

David M. Kennedy, Acting Assistant Administrator for Ocean Services and Coastal Zone Management National Ocean Service.

Laura K. Furgione, Deputy Assistant Administrator for Weather Service National Weather Service.

John S. Gray III, Director, Legislative and Intergovernmental Affairs Office of Legislative and Intergovernmental Affairs.

Craig N. McLean, Deputy Assistant Administrator for Programs and Administration, Office of Oceanic and Atmospheric Research.

Samuel D. Rauch III, Deputy Assistant Administrator for Regulatory Programs, National Marine Fisheries Service.

Dated: September 14, 2010.
Jane Lubchenco,
Under Secretary of Commerce for Oceans and Atmosphere.

[FR Doc. 2010-23959 Filed 9-23-10; 8:45 am]

BILLING CODE 3510-12-P